DEPARTMENT OF ENERGY

Federal Energy Regulatory Commission

[Docket Nos. EL02-60-000; EL02-62-000; (Consolidated)]

Public Utilities Commission of the State of California, Complainant v. Sellers of Long-Term Contracts to the California Department of Water Resources, Respondent; Notice of Proposed Restricted Service List

Rule 2010(d) of the Federal Energy Regulatory Commission's (Commission) Rules of Practice and Procedure provides that, to eliminate unnecessary expense or improve administrative efficiency, the Secretary may establish a restricted service list for a proceeding.¹ The restricted service list should contain the names of persons on the service list who, in the judgment of the decisional authority establishing the list, are active participants with respect to the “proceeding or consolidated proceeding” for which the list is established.²

¹ 18 CFR 385.2010(d) (2014).

² Id. at § 2010(d)(2).

On August 1, 2014, the California Public Utilities Commission (CPUC) requested that a restricted service list be established in the captioned consolidated dockets. The CPUC asserts that with the passage of time and various settlements the active parties have been significantly diminished. The CPUC also points out that there are numerous invalid addresses in the current lists, and that because the proceedings were initiated prior to March 21, 2005, electronic service is not the default means of service unless the parties otherwise agree.³

³ Id. at § 2010(f).

The CPUC asserts that is has served this request on the existing service lists in these proceedings, and has directly contacted the two remaining Respondents to the proceeding who have indicated they do not oppose this request.

Any person on the official service list for the above-captioned proceeding may request inclusion on the restricted service list, or may request that a restricted service list not be established, by filing a letter or pleading to that effect within 15 days of this notice date. Service pursuant to the restricted service list will be made by electronic means.⁴ Any person requesting inclusion on the restricted service list that has not previously done so should comply with the Commission's procedures for electronic registration.⁵

⁴ Id. at §§ 2010(f) and (g).

⁵ Id. at § 2010(h).

Requests for inclusion on the restricted service list, or any other pleadings, may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and 5 copies to: Kimberly D. Bose, Secretary, Federal Energy Regulatory Commission, 888 First Street NE., Washington, DC 20426. Please put the docket number on the first page of the filing.

If no pleadings opposing a restricted service list are filed, the restricted service list will be effective at the end of the 15-day period. Otherwise, a further notice will be issued ruling on any such pleadings filed within the 15-day period.

Dated: August 25, 2014.
Kimberly D. Bose,
Secretary.

[FR Doc. 2014-20756 Filed 8-29-14; 8:45 am]

BILLING CODE 6717-01-P